DEPARTMENT OF HOMELAND SECURITY

Federal Emergency Management Agency

[Docket ID FEMA-2012-0007]

Hazard Mitigation Assistance for Wind Retrofit Projects for Existing Residential Buildings

AGENCY: Federal Emergency Management Agency, DHS.

ACTION: Notice of availability; request for comments.

SUMMARY: The Federal Emergency Management Agency (FEMA) is accepting comments on Hazard Mitigation Assistance for Wind Retrofit Projects for Existing Residential Buildings.

DATES: Comments must be received by June 25, 2012.

ADDRESSES: You may submit comments, identified by Docket ID FEMA-2012-0007, by one of the following methods:

Federal eRulemaking Portal: http://www.regulations.gov. Search for docket ID FEMA-2012-0007 and follow the instructions for submitting comments. Please note that this proposed policy is not a rulemaking and the Federal Rulemaking Portal is being utilized only as a mechanism for receiving comments.

Mail/Hand Delivery/Courier: Office of Chief Counsel, Federal Emergency Management Agency, 500 C Street SW., Room 835, Washington, DC 20472-3100.

FOR FURTHER INFORMATION CONTACT: Cecelia Rosenberg, Federal Insurance and Mitigation Administration, Federal Emergency Management Agency, 1800 South Bell Street, Room 608, Arlington, VA 20598-3015, (phone) 202-646-3321, or email cecelia.rosenberg@fema.dhs.gov.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice which can be viewed by clicking on the “Privacy Notice” link in the footer of www.regulations.gov.

Docket: The proposed policy is available in docket ID FEMA-2012-0007. For access to the docket to read background documents or comments received, go to the Federal eRulemaking Portal at http://www.regulations.gov and search for the docket ID. Submitted comments may also be inspected at FEMA, Office of Chief Counsel, Room 835, 500 C Street SW., Washington, DC 20472.

II. Background

The Pre-Disaster Mitigation program (PDM) and the Hazard Mitigation Grant Program (HMGP), authorized by sections 203 and 404 of the Robert T. Stafford Disaster Relief and Emergency Assistance Act, 42 U.S.C. 5121 et seq., provide funding for eligible, feasible, and cost-effective activities that have the purpose of reducing or eliminating risks to life and property from hazards and their effects. One such activity is the implementation of wind retrofit projects to protect existing one- and two-family residential buildings (not including manufactured housing) from hurricane-force wind-related damages. FEMA has prepared a proposed Mitigation Policy to address PDM and HMGP programmatic guidelines for this project type. The policy will help ensure national consistency in the use of funds for this hazard mitigation activity. The proposed policy identifies key project requirements specific to this hazard mitigation activity including: Eligible activities and Mitigation Packages, building evaluation criteria, project application requirements, and eligible and ineligible costs. The proposed policy also provides the public, building professionals and decision-makers with direction on the implementation steps required for a complete wind retrofit project subapplication.

Thousands of existing homes in the hurricane-prone region are vulnerable to the effects of coastal high-wind events and are not designed to the same level of wind resistance required by today's codes and standards. FEMA concluded that additional technical guidance is needed to facilitate the development of hazard mitigation retrofit projects for such residential buildings. As a result, the proposed policy relies on publication FEMA P-804, Wind Retrofit Guide for Residential Buildings, as a guideline for these wind retrofit projects. FEMA P-804 provides the technical guidance needed to promote and properly perform wind retrofit projects for existing one- and two-family residential buildings. The publication offers a unified technical and programmatic solution to residential wind retrofit projects using three Mitigation Packages (Basic, Intermediate, and Advanced). Each successive package contains retrofit standards that increase the level of protection for wind-related damages to the building.

Authority: 42 U.S.C. 5133; 5170(c).

W. Craig Fugate,
Administrator, Federal Emergency Management Agency.

[FR Doc. 2012-9761 Filed 4-23-12; 8:45 am]

BILLING CODE 9110-13-P